DEPARTMENT OF AGRICULTURE

Forest Service

Information Collection; Request for Comments; FS-2800-9-Contract for the Sale of Mineral Materials

AGENCY: Forest Service, USDA.

ACTION: Notice.

SUMMARY: In accordance with the Paperwork Reduction Act of 1995, the Forest Service announces its intention to extend the information collection, FS-2800-9-Contract for the Sale of Mineral Materials. The collected information enables the Forest Service to ensure that individuals, organizations, companies, or corporations, conducting mining operations on National Forest System lands, conduct the operations in a manner consistent with all applicable land management laws and regulations in an environmentally responsible manner and are financially accountable.

DATES: Comments must be received in writing on or before May 24, 2004.

ADDRESSES: Comments concerning this notice should be addressed to Director, Minerals and Geology Management Staff, Mail Stop 1126, 1601 N. Kent Street—5th Floor, Forest Service, USDA, Arlington, VA 22209.

Comments also may be submitted via facsimile to (703) 605-1575 or by e-mail to mgreeley@fs.fed.us.

The public may inspect comments in the Office of the Director, Minerals and Geology Management Staff, 1601 N. Kent Street—5th Floor, Forest Service, USDA, Arlington, Virginia, during normal business hours. Visitors are encouraged to call ahead to (703) 605-4797 to facilitate entry into the building.

FOR FURTHER INFORMATION, CONTACT: Mike Greeley, Minerals and Geology Management, at (703) 605-4797.

SUPPLEMENTARY INFORMATION:

Background

The Mineral Materials Act of 1947, as amended, and the Multiple Use Mining Act of 1955, as amended, authorize the Secretary of Agriculture to dispose of petrified wood and common varieties of sand, stone, gravel, pumice, pumicite, cinders, clay, and other similar materials on lands administered by the Forest Service. Individuals, organizations, companies, or corporations may apply for a permit to mine these mineral materials using the form, FS-2800-9-Contract for the Sale of Mineral Materials. The agency is requesting an authorization extension for form FS-2800-9-Contract for the Sale of Mineral Materials.

Description of Information Collection

The following describes the information collection to be extended:

Title: FS-2800-9—Contract for the Sale of Mineral Materials.

OMB Number: 0596-0081.

Expiration Date of Approval: May 31, 2004.

Type of Request: Extension.

Abstract: The collected information enables the Forest Service to document planned operations, to prescribe the terms and conditions the agency deems necessary to protect surface resources, and to effect a binding contract agreement.

Forest Service employees will evaluate the collected information to ensure that entities, applying to mine petrified wood and common varieties of sand, stone, gravel, pumice, pumicite, cinders, clay, and other similar materials on lands administered by the Forest Service, are financially accountable and conduct their activities in accordance with the mineral regulations at Part 228, subpart C, of Title 36 of the Code of Federal Regulations.

Individuals, organizations, companies, or corporations, interested in mining mineral materials on National Forest System lands, may contact their local Forest Service office to inquire about opportunities and to learn about areas on which such activities are permitted. Interested parties also may request the form, FS-2800-9, at this time.

Individuals, organizations, companies, or corporations are asked to provide information that includes the purchaser's name and address, the location and dimensions of the area to be mined, the kind of material that will be mined, the quantity of material that will be mined, the sales price of the mined material, the payment schedule, the amount of the bond, and the period of the contract.

Data collected in this information collection are not available from other sources.

Estimate of Burden: 2.5 hours.

Type of Respondents: Mineral materials operators.

Estimated Number of Respondents: 6,000.

Estimated Number of Responses per Respondent: 1.

Estimated Total Annual Burden on Respondents: 15,000 hours.

Comment is invited on: (a) Whether the proposed collection of information is necessary for the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments, including name and address when provided, will become a matter of public record. Comments will be summarized and included in the submission for Office of Management and Budget approval.

Dated: March 19, 2004.
Gloria Manning,
Associate Deputy Chief, National Forest System.

[FR Doc. 04-6686 Filed 3-24-04; 8:45 am]

BILLING CODE 3410-11-P